DEPARTMENT OF ENERGY

Office of Energy Efficiency and Renewable Energy

Proposed Agency Information Collection

AGENCY: Office of Energy Efficiency and Renewable Energy, U.S. Department of Energy.

ACTION: Notice and request for OMB review and comment.

SUMMARY: The Department of Energy (DOE) has submitted to the Office of Management and Budget (OMB) for clearance a proposal for collection of information under the provisions of the Paperwork Reduction Act of 1995. The proposed collection in support of the DOE's Small Business Vouchers (SBV) pilot will gather quantitative estimates of the pilot's impacts as well as capture implementation lessons learned. The information is needed to assess the impacts of the SBV Pilot, documenting that the investment is producing the expected results, and to determine ways to improve the pilot should it be expanded in scope.

The SBV Pilot is a funding mechanism structured to allow small businesses engaged in the renewable energy and energy efficiency sectors to collaborate with researchers at the DOE National Laboratories and to take advantage of the resources at the Labs that assist small businesses in proceeding through commercialization challenges. Respondents will include small businesses participating in the pilot as well a comparison group of small businesses outside of the SBV Pilot.

DATES: Comments regarding this collection must be received on or before May 11, 2016. If you anticipate that you will be submitting comments, but find it difficult to do so within the period of time allowed by this notice, please advise the DOE Desk Officer at OMB of your intention to make a submission as soon as possible. The Desk Officer may be telephoned at 202-395-4718.

ADDRESSES: Written comments should be sent to the

DOE Desk Officer, Office of Information and Regulatory Affairs, Office of Management and Budget, New Executive Office Building, Room 10102, 735 17th Street NW., Washington, DC 20503.

And to

Jeff Dowd,

By email to: Jeff.Dowd@ee.doe.gov.

Or by mail to: Jeff Dowd, US Department of Energy, EE-61P, 1000 Independence Ave. SW., Washington, DC 20585.

FOR FURTHER INFORMATION CONTACT: Jeff Dowd, Jeff.Dowd@ee.doe.gov. Requests may also be mailed to Jeff Dowd, US Department of Energy, EE-61P, 1000 Independence Ave. SW., Washington, DC 20585. Calls may be directed to Jeff Dowd at (202) 586-7258.

SUPPLEMENTARY INFORMATION: This information collection request contains: (1) OMB No. “New”; (2) Information Collection Request Title: Small Business Vouchers: Web-survey of Participating and Nonparticipating Small Businesses for DOE's Small Business Vouchers Pilot; (3) Type of Request: New collection; (4) Purpose: To evaluate the effectiveness and impacts of DOE's Small Business Vouchers (SBV) pilot program, to capture lessons learned, and make recommendations; The information collection will be through a web based survey, allowing participating SBV firms and the comparison firms to answer questions at a time most convenient for them. The web survey will consist of two full-length surveys, the first conducted once after the first year of vouchers has been completed (i.e., the second year of the pilot) and the second once five years after the pilot began, and one abbreviated survey administered twice in the interim years (pilot years three and four). The information collection assumes there will be approximately 100 participating SBV firms in the first year of the program (vouchers awarded in 2016) and assumes there will be comparable levels of funding and participating SBV firms in 2017 and 2018. The first full-length survey (30 minutes in length for about 70 SBV participants and about 70 comparison firms) will stress questions about the application, selection, work agreement and completion processes and also ask about commercialization progress and other outcomes. The survey in year five (30 minutes in length) will ask about 300 firms participating in SBV from Years 1-3 and about 100 comparison firms about interest in continuing to engage with the national Laboratories, but will concentrate on commercialization and other outcomes and how much the DOE program contributed to the outcomes. The abbreviated, interim-year surveys will be 15 minutes in length and will provide status updates on SBV pilot impacts such as commercialization and other outcomes. The purpose of also surveying small business firms that have an interest in working with the National Laboratories but have not participated in SBV is to investigate similarities and differences in the two small business groups. The data collected in the year five survey will also be used to perform a benefit-cost calculation and benchmark comparison of voucher firms to firms in the DOE Small Business Innovation Research (SBIR) program, based on existing SBIR data; (5) Annual Estimated Number of Respondents: Pilot Year 2 Survey: 140; Pilot Year 3 Survey: 200; Pilot Year 4 Survey: 300; Pilot Year 5 Survey: 400 ; (6) Annual Estimated Number of Total Responses: Pilot Year 2 Survey: 140; Pilot Year 3 Survey: 200; Pilot Year 4 Survey: 300; Pilot Year 5 Survey: 400; (7) Annual Estimated Number of Burden Hours: Pilot Year 2 Survey: 70; Pilot Year 3 Survey: 50; Pilot Year 4 Survey: 75; Pilot Year 5 Survey: 200; (8) Annual Estimated Reporting and Recordkeeping Cost Burden: Pilot Year 2 Survey: $0; Pilot Year 5 Survey: $0; Pilot Year 3 and 4 Survey: $0.

Statutory Authority: DOE Org Act (42 U.S.C. 7101, et seq.) and 42 U.S.C. 16191 (AMO authority).

Issued in Washington, DC on April 5, 2016.
Jeff Dowd,
Office of Energy Efficiency and Renewable Energy, Department of Energy.

[FR Doc. 2016-08226 Filed 4-8-16; 8:45 am]

BILLING CODE 6450-01-P